DEPARTMENT OF JUSTICE

Drug Enforcement Administration

Manufacturer of Controlled Substances; Notice of Application; Chemtos, LLC.

Pursuant to § 1301.33(a), Title 21 of the Code of Federal Regulations (CFR), this is notice that on May 21, 2013, Chemtos, LLC., 14101 W. Highway 290, Building 2000B, Austin, Texas 78737-9331, made application by renewal to the Drug Enforcement Administration (DEA) to be registered as a bulk manufacturer of the following basic classes of controlled substances:

Drug | Schedule
Amphetamine (1100) | II
Methamphetamine (1105) | II
Lisdexamfetamine (1205) | II
Methylphenidate (1724) | II
Nabilone (7379) | II
Phenylacetone (8501) | II
Cocaine (9041) | II
Codeine (9050) | II
Etorphine HCL (9059) | II
Dihydrocodeine (9120) | II
Oxycodone (9143) | II
Hydromorphone (9150) | II
Ecgonine (9180) | II
Ethylmorphine (9190) | II
Hydrocodone (9193) | II
Levomethorphan (9210) | II
Levorphanol (9220) | II
Isomethadone (9226) | II
Meperidine (9230) | II
Meperidine-intermediate-A (9232) | II
Meperidine-intermediate-B (9233) | II
Meperidine-intermediate-C (9234) | II
Methadone (9250) | II
Methadone intermediate (9254) | II
Morphine (9300) | II
Thebaine (9333) | II
Dihydroetorphine (9334) | II
Levo-alphacetylmethadol (9648) | II
Oxymorphone (9652) | II
Racemethorphan (9732) | II
Racemorphan (9733) | II

The company plans to manufacture small quantities of the listed controlled substances in bulk for distribution to its customers for use as reference standards.

Any other such applicant, and any person who is presently registered with DEA to manufacture such substances, may file comments or objections to the issuance of the proposed registration pursuant to 21 CFR 1301.33(a).

Any such written comments or objections should be addressed, in quintuplicate, to the Drug Enforcement Administration, Office of Diversion Control, Federal Register Representative (ODL), 8701 Morrissette Drive, Springfield, Virginia 22152; and must be filed no later than August 30, 2013.

Dated: June 18, 2013.
Joseph T. Rannazzisi,
Deputy Assistant Administrator, Office of Diversion Control, Drug Enforcement Administration.

[FR Doc. 2013-15572 Filed 6-28-13; 8:45 am]

BILLING CODE 4410-09-P